DEPARTMENT OF LABOR

Employment and Training Administration

[TA-W-64,088]

Rexam Closure Systems, Inc., Bowling Green, OH; Notice of Affirmative Determination Regarding Application for Reconsideration

By application dated October 22, 2008, the International Union, United Automobile, Aerospace and Agricultural Implement Workers of America, Region 2-B, requested administrative reconsideration of the negative determination regarding workers' eligibility to apply for Trade Adjustment Assistance (TAA) and Alternative Trade Adjustment Assistance (ATAA) applicable to workers and former workers of the subject firm. The determination was issued on October 3, 2008. The Notice of Determination was published in the Federal Register on October 20, 2008 (73 FR 62323).

The initial investigation resulted in a negative determination based on the finding that imports of plastic closures for plastic food industry packaging did not contribute importantly to worker separations at the subject firm and no shift of production to a foreign source occurred.

In the request for reconsideration, the petitioner provided additional information pertaining to a shift in subject plant production of plastic closures for plastic food industry packaging to China and requested further investigation of import impact as it relates to declining subject plant production of plastic closures for plastic food industry packaging.

The Department has carefully reviewed the request for reconsideration and the existing record and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 13th day of November 2008.
Elliott S. Kushner,
Certifying Officer, Division of Trade Adjustment Assistance.

[FR Doc. E8-27935 Filed 11-24-08; 8:45 am]

BILLING CODE 4510-FN-P